DEPARTMENT OF COMMERCE

International Trade Administration

Applications for Duty-Free Entry of Scientific Instruments

Pursuant to section 6(c) of the Educational, Scientific and Cultural Materials Importation Act of 1966 (Pub. L. 89-651; 80 Stat. 897; 15 CFR part 301), we invite comments on the question of whether instruments of equivalent scientific value, for the purposes for which the instruments shown below are intended to be used, are being manufactured in the United States.

Comments must comply with 15 CFR 301.5(a)(3) and (4) of the regulations and be filed within 20 days with the Statutory Import Programs Staff, U.S. Department of Commerce, Washington, DC 20230. Applications may be examined between 8:30 a.m. and 5:00 p.m. in Room 4211, U.S. Department of Commerce, 14th Street and Constitution Avenue, NW., Washington, DC.

Docket Number: 01-006. Applicant: University of Wisconsin-Madison, 750 University Avenue, A.W. Peterson Building, Madison, WI 53706. Instrument: Photoelectron Emission Microscope, Model PEEM III. Manufacturer: ELMITEC Elektronenmikroskopie, Germany. Intended Use: The instrument is intended to be used in conjunction with a synchrotron x-ray source to perform spatially resolved element and chemical state analysis. In addition, the instrument will be used to study a wide range of specimen types, including biological specimens and material science samples. Specific experimental projects will include:

(1) Gadolinium neutron capture therapy for brain cancer—detect and map the uptake of Gd containing drugs in cancer cells and tissue, hence directly test the efficacy of potential anti-cancer drugs before clinical trials,

(2) Geomicrobiology—investigate the chemical mechanisms which allow microorganisms to interact with and gain energy from the environment which occurs at a sub micron scale, and

(3) Colossal magnetoresistive materials—verifying or refuting a number of theories that predict unusual behavior of electrons in the manganate series of these materials.

Application accepted by Commissioner of Customs: March 1, 2001.

Docket Number: 01-007. Applicant: University of Wisconsin-Madison, 750 University Avenue, A.W. Peterson Building, Madison, WI 53706. Instrument: Sample Preparation Chamber with accessories. Manufacturer: ELMITEC Elektronenmikroskopie, Germany. Intended Use: The instrument is intended to be used for studies of spatially resolved x-ray absorption techniques for chemical analysis of complex biological, environmental and materials science specimens. The principal experiments are: (1) Investigation of the uptake of gadolinium containing drugs in tumor cells and tissue for novel cancer therapies, (2) geomicrobiology—the chemical interactions between microorganisms and mineral environments and (3) investigation of the electronic behavior of colossal magnetoresistant manganates. In addition, the instrument will be used to demonstrate microchemical analysis through x-ray absorption spectromicroscopy in a graduate level course on physical techniques in biophysics. Application accepted by Commissioner of Customs: February 27, 2001.

Docket Number: 01-008. Applicant: Boston College, Department of Physics, 140 Commonwealth Avenue, Chestnut Hill, MA 02467. Instrument: Electron Microscope, Model JEM-2010F. Manufacturer: JEOL Ltd., Japan. Intended Use: The instrument is intended to be used to study the microstructure of nano materials such as carbon nanotubes, catalysts for the growth of carbon nanotubes, high temperature superconductors, ceramics, semiconductors. While the instrument will be used primarily for research purposes, it will also be used on a one-on-one basis for training of faculty and graduate students in electron microscopy.

Application accepted by Commissioner of Customs: March 1, 2001.

Gerald A. Zerdy,
Program Manager, Statutory Import Programs Staff.

[FR Doc. 01-7408 Filed 3-23-01; 8:45 am]

BILLING CODE 3510-DS-P